COMMITTEE FOR PURCHASE FROM PEOPLE WHO ARE BLIND OR SEVERELY DISABLED

Procurement List; Proposed Deletions

ACTION: Proposed Deletions from Procurement List.

SUMMARY: This action deletes from the Procurement List products and services previously furnished by nonprofit agencies employing persons who are blind or have other severe disabilities.

Comments Must be Received on or Before: March 25, 2007.

ADDRESSES: Committee for Purchase From People Who Are Blind or Severely Disabled Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail CMTEFedReg@jwod.gov.

SUPPLEMENTARY INFORMATION: This notice is published pursuant to 41 U.S.C 47(a) (2) and 41 CFR 51-2.3. Its purpose is to provide interested persons an opportunity to submit comments on the proposed actions.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

Clock, Atomic, Standard, Thermometer.

NSN: 6645-01-491-9810—Clock, Atomic, Standard, Thermometer.

NSN: 6645-01-491-9811—Clock, Atomic, Standard, Thermometer.

NSN: 6645-01-491-9812—Clock, Atomic, Standard, Thermometer.

NSN: 6645-01-491-9813—Clock, Atomic, Standard, Thermometer.

NSN: 6645-01-491-9817—Clock, Atomic, Standard, Thermometer.

NSN: 6645-01-491-9818—Clock, Atomic, Standard, Thermometer.

NSN: 6645-01-491-9833—Clock, Atomic, Standard, Thermometer.

NSN: 6645-01-491-9834—Clock, Atomic, Standard, Thermometer.

NSN: 6645-01-491-9842—Clock, Atomic, Standard, Thermometer.

NSN: 6645-01-491-9843—Clock, Atomic, Standard, Thermometer.

NSN: 6645-01-491-9845—Clock, Atomic, Standard, Thermometer.

NSN: 6645-01-492-0379—Clock, Atomic, Standard, Thermometer.

NPA: The Chicago Lighthouse for People who are Blind or Visually Impaired, Chicago, IL.

Contracting Activity: Office Supplies & Paper Products Acquisition Ctr, New York, NY.

Harness, Safety Shoulder.

NSN: 2540-00-432-1343—Harness, Safety Shoulder.

NPA: Huntsville Rehabilitation Foundation, Huntsville, AL.

Contracting Activity: Defense Supply Center Columbus, Columbus, OH.

Pencil, Mechanical, Push-Action (MD).

NSN: 7520-01-484-3907—Pencil, Mechanical, Push-Action (MD).

NSN: 7520-01-484-3908—Pencil, Mechanical, Push-Action (MD).

NPA: San Antonio Lighthouse for the Blind, San Antonio, TX.

Contracting Activity: Office Supplies & Paper Products Acquisition Ctr, New York, NY.

Table, Printer.

NSN: 7110-01-226-1707—Table, Printer.

Bookcase.

NSN: 7110-01-148-2414—Bookcase.

NSN: 7110-01-276-3627—Bookcase.

Cabinet, Telephone.

NSN: 7110-01-148-2421—Cabinet, Telephone.

Credenza.

NSN: 7110-00-762-5513—Credenza.

NSN: 7110-01-148-2419—Credenza.

NSN: 7110-01-276-3628—Credenza.

NSN: 7110-01-276-3629—Credenza.

Desk.

NSN: 7110-01-148-2410—Desk.

NSN: 7110-01-148-2411—Desk.

NSN: 7110-01-170-3594—Desk.

NSN: 7110-01-170-3595—Desk.

NSN: 7110-01-170-3596—Desk.

NSN: 7110-01-170-3597—Desk.

NSN: 7110-01-170-3598—Desk.

NSN: 7110-01-170-7582—Desk.

Storage Unit, Overhead.

NSN: 7110-01-276-3625—Storage Unit, Overhead.

NPA: Unknown.

Contracting Activity: GSA, National Furniture Center, Arlington, VA.

Services

Service Type/Location: Grounds Maintenance, U.S. Army Reserve Center (Lawton), 900 Cache Road, Lawton, OK.

Service Type/Location: Janitorial/Custodial, U.S. Army Reserve Center (Lawton), 900 Cache Road, Lawton, OK.

NPA: Goodwill Industries of Southwest Oklahoma, Inc., Lawton, OK.

Contracting Activity: Department of the Army.

Service Type/Location: Janitorial/Custodial, 926th Fighter Wing, Naval Air Station Joint Reserve Base, New Orleans, LA.

NPA: Goodworks, Inc., New Orleans, LA.

Contracting Activity: 301st Operational Contracting, Ft. Worth, TX.

Sheryl D. Kennerly,
Director, Information Management.

[FR Doc. E7-3125 Filed 2-22-07; 8:45 am]

BILLING CODE 6353-01-P